DEPARTMENT OF ENERGY

Federal Energy Regulatory Commission

[Docket No. RP02-223-000]

Gulf South Pipeline Company, LP; Notice of Proposed Changes in FERC Gas Tariff

April 5, 2002.

Take notice that on April 2, 2002, Gulf South Pipeline Company, LP (Gulf South) tendered for filing as part of its FERC Gas Tariff, Sixth Revised Volume No. 1, the following tariff sheets, to become effective May 2, 2002:

Third Revised Sheet No. 20

Second Revised Sheet No. 21

Second Revised Sheet No. 22

Second Revised Sheet No. 23

Second Revised Sheet No. 24

In order to facilitate Gulf South's new interconnect with Florida Gas Transmission Company, Gulf South has filed tariff sheets to include SLN 21262. No other changes are being proposed to Gulf South's terms and conditions or its rates.

Gulf South states that copies of this filing have been served upon Gulf South's customers, state commissions and other interested parties.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-8915 Filed 4-11-02; 8:45 am]

BILLING CODE 6717-01-P